DEPARTMENT OF THE INTERIOR

National Park Service

Great Sand Dunes National Park Advisory Council Meeting

AGENCY: National Park Service, Interior.

ACTION: Announcement of meetings.

SUMMARY: Great Sand Dunes National Monument and Preserve announces dates for meetings of the Great Sand Dunes National Park Advisory Council, which was established to provide guidance to the Secretary on long-term planning for Great Sand Dunes National Monument and Preserve.

DATES: The meeting dates are:

1. May 29, 2003, 1 p.m.-8 p.m., Alamosa, Colorado.

2. June 26, 2003, 1 p.m.-8 p.m., Crestone, Colorado.

ADDRESSES: The meeting locations are:

1. Alamosa, Colorado—Alamosa County Services Center, 8900 Independence Way, Alamosa, CO 81101

2. Crestone, Colorado—Crestone Community Building, 242 No. Cottonwood St., Crestone, CO 81131.

FOR FURTHER INFORMATION CONTACT: Steve Chaney, 719-378-2314.

SUPPLEMENTARY INFORMATION: The meetings announced with this notice are the first meetings of the Great Sand Dunes National Park Advisory Council which was established pursuant to Public Law 106-530, the Great Sand Dunes National Park and Preserve Act of 2000. At these meetings, the council will receive an orientation/information session on Great Sand Dunes National Monument operations, an update regarding redesignation of the Monument to a national park, and information regarding the general management planning process, and will discuss these matters and other business.

John Crowley,
Acting Regional Director.

[FR Doc. 03-11858 Filed 5-12-03; 8:45 am]

BILLING CODE 4310-CL-P